NATIONAL SCIENCE FOUNDATION

Notice of Permit Applications Received Under the Antarctic Conservation Act of 1978

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by December 10, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

Application Details

1. Applicant Permit Application: 2015-013; Dr. Sarah Eppley, Portland State University, Department of Biology, P.O. Box 751, Portland, OR 97207.

Activity for Which Permit Is Requested

ASPA, Import into USA. Mosses are known ecosystem engineers in the Arctic tundra, while little is known about Antarctic mosses in organizing communities or shaping ecosystem processes, and how individual moss types influence Antarctic ecology. The applicants propose to collect moss and soil samples from ASPAs to investigate how climate warming will affect Antarctic moss terrestrial ecosystems. Moss samples will be taken using a metal 2 cubic centimeter coring device, and soil samples will be collected at up to 3 cm deep. Up to 180 samples total from each of 6 different species and 30 samples total from two other species will be taken, along with up to 400 total soil samples. These samples will be imported back to Portland State University.

Location

ASPAs 125 (Fildes Peninsula), 126 (Byers Peninsula), 140 (Crater Lake), 150 (Ardly Island).

Dates

January 5-June 30, 2015.

Nadene G. Kennedy,
Polar Coordination Specialist, Division of Polar Programs.

[FR Doc. 2014-26588 Filed 11-7-14; 8:45 am]

BILLING CODE 7555-01-P